DEPARTMENT OF HEALTH AND HUMAN SERVICES

Administration for Children and Families

Submission for OMB Review; Judicial, Court, and Attorney Measures of Performance (New Collection)

AGENCY: Children's Bureau; Administration for Children and Families; HHS.

ACTION: Request for public comment.

SUMMARY: The Children's Bureau, Administration for Children and Families (ACF), U.S. Department of Health and Human Services (HHS), is proposing to collect data for a new descriptive study, Judicial, Court, and Attorney Measures of Performance (JCAMP).

DATES: Comments due within 30 days of publication. The Office of Management and Budget (OMB) is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: This study will collect information from Court Improvement Program (CIP) staff to (1) understand data capacity and current use of performance measures and (2) gather feedback from the performance measure pilot process. This will be accomplished using two instruments:

JCAMP CIP Data Capacity Survey

The survey asks CIPs about their current capacity to collect specific data elements from the following six categories of measurement: (1) Legal and judicial context (e.g., court docketing), (2) Practices (e.g., attorney pre-petition legal practice), (3) Short-term outcomes that happen during hearings (e.g., discussion of key issues), (4) Intermediate outcomes that happen during the case (e.g., judicial continuity), (5) Long-term outcomes that happen after case closure (e.g., child safety), and (6) Cross-cutting themes (e.g., equity). The survey asks about capacity broadly and then specifically for a series of subcategories.

JCAMP Pilot Site Debrief Form

The JCAMP Pilot Site Debrief Form is a survey developed to be administered to CIP staff who have assisted with piloting of the performance measures. The survey asks participants about the challenges and successes in collecting pilot data for the measures, their confidence in collecting the data going forward, and suggestions for improving future efforts.

Respondents: Respondents include CIP Administrators and staff.

Annual Burden Estimates
Instrument | Total number of respondents | Number of responses per respondent | Average burden hours per response | Total burden hours | Annual burden hours
JCAMP CIP Data Capacity Survey | 106 | 1 | .83 | 264 | 88
JCAMP Pilot Debrief Form | 24 | 1 | .25 | 18 | 6

Estimated Total Annual Burden Hours: 94.

Authority: Section 5106, Public Law 111-320, the Child Abuse Prevention and Treatment Act Reauthorization Act of 2010, and titles IV-B and IV-E of the Social Security Act.

Mary B. Jones,
ACF/OPRE Certifying Officer.

[FR Doc. 2022-06991 Filed 4-1-22; 8:45 am]

BILLING CODE 4184-29-P